NATIONAL ARCHIVES AND RECORDS ADMINISTRATION

[NARA-2025-024]

Freedom of Information Act (FOIA) Advisory Committee Meeting

AGENCY: Office of Government Information Services (OGIS), National Archives and Records Administration (NARA).

ACTION: Notice of meeting.

SUMMARY: We are announcing an upcoming Freedom of Information Act (FOIA) Advisory Committee meeting in accordance with the Federal Advisory Committee Act and the second United States Open Government National Action Plan.

DATES: The meeting will be on June 12, 2025, from 10 a.m. to Noon EDT. You must register to attend. (See registration information below.)

ADDRESSES: This meeting will be a virtual meeting. We will send access instructions for the meeting to those who register according to the instructions below.

FOR FURTHER INFORMATION CONTACT: Kirsten Mitchell, Designated Federal Officer for this committee, by email at foia-advisory-committee@nara.gov, or by telephone at 202.741.5770.

SUPPLEMENTARY INFORMATION:

Agenda and meeting materials: We will post all meeting materials, including the agenda, at https://www.archives.gov/ogis/foia-advisory-committee/2024-2026-term.

This meeting will be the fifth of the 2024-2026 committee term. The purpose of the meeting will be to hear reports from and discuss any recommendations from each of the three subcommittees: Statutory Reform, Volume and Frequency, and Implementation.

Procedures: This virtual meeting is open to the public in accordance with the Federal Advisory Committee Act (5 U.S.C. 1001-1014). If you wish to offer oral public comments during the public comments periods of the meeting, you must register in advance at https://www.zoomgov.com/webinar/register/WN_jp21CP9oTAeuobFloMxWrw. You will be provided with information to access the meeting online. Public comments will be limited to three minutes per individual. Written public comments may be submitted at any time to https://www.archives.gov/ogis/public-comments and will be posted if they meet OGIS's posting policy. We will also live-stream the meeting on the National Archives YouTube channel, https://www.youtube.com/live/59PYN88FCpw and include a captioning option. To request additional accommodations, email foia-advisory-committee@nara.gov or call 202.741.5770. Those who are unable to register online, and those who require special accommodations, should contact Kirsten Mitchell (contact information listed above).

Merrily Harris,
Committee Management Officer.

[FR Doc. 2025-09676 Filed 5-28-25; 8:45 am]

BILLING CODE 7515-01-P